DEPARTMENT OF ENERGY

Federal Energy Regulatory Commission

Combined Notice of Filings #1

Take notice that the Commission received the following exempt wholesale generator filings:

Docket Numbers: EG21-36-000.

Applicants: Central Line Solar, LLC.

Description: Self-Certification of EG of Central Line Solar, LLC.

Filed Date: 11/13/20.

Accession Number: 20201113-5239.

Comments Due: 5 p.m. ET 12/4/20.

Take notice that the Commission received the following electric rate filings:

Docket Numbers: ER10-2063-003.

Applicants: Otter Tail Power Company.

Description: Notice of Non-Material Change in Status of Otter Tail Power Company.

Filed Date: 11/13/20.

Accession Number: 20201113-5226.

Comments Due: 5 p.m. ET 12/4/20.

Docket Numbers: ER11-4044-025; ER10-2136-016; ER11-4046-024; ER16-1720-015.

Applicants: Gratiot County Wind LLC, Gratiot County Wind II LLC, Invenergy Cannon Falls LLC, Invenergy Energy Management LLC.

Description: Notice of Change in Facts of Gratiot County Wind LLC, et al.

Filed Date: 11/13/20.

Accession Number: 20201113-5139.

Comments Due: 5 p.m. ET 12/4/20.

Docket Numbers: ER18-1314-008.

Applicants: PJM Interconnection, L.L.C.

Description: Compliance filing: Third Compliance in EL16-49 and EL18-178 MOPR, Motion to Reinstate Certain RPM to be effective 10/15/2020.

Filed Date: 11/13/20.

Accession Number: 20201113-5138.

Comments Due: 5 p.m. ET 12/4/20.

Docket Numbers: ER20-2125-000.

Applicants: WGP Redwood Holdings, LLC.

Description: Amendment to June 22, 2020 WGP Redwood Holdings, LLC tariff filing.

Filed Date: 11/16/20.

Accession Number: 20201116-5038.

Comments Due: 5 p.m. ET 11/27/20.

Docket Numbers: ER20-3036-000; ER20-3037-000.

Applicants: Vopak Industrial Infrastructure Americas.

Description: Supplement to September 30, 2020 Vopak Industrial Infrastructure Americas Plaquemine, LLC, et al.

Filed Date: 11/13/20.

Accession Number: 20201113-5242.

Comments Due: 5 p.m. ET 11/23/20.

Docket Numbers: ER21-110-000.

Applicants: Harts Mill TE Holdings LLC.

Description: Supplement to October 15, 2020 Harts Mill TE Holdings LLC tariff filing.

Filed Date: 11/10/20.

Accession Number: 20201110-5181.

Comments Due: 5 p.m. ET 11/19/20.

Docket Numbers: ER21-293-001.

Applicants: Horizon West Transmission, LLC.

Description: Tariff Amendment: Horizon West Transmission, LLC Amendment to Proposed Formula Rate to be effective 1/1/2021.

Filed Date: 11/13/20.

Accession Number: 20201113-5107.

Comments Due: 5 p.m. ET 12/4/20.

Docket Numbers: ER21-408-000.

Applicants: Southwest Power Pool, Inc.

Description: § 205(d) Rate Filing: Basin Electric Power Cooperative Contract Services Agreement Amendment to be effective 2/1/2021.

Filed Date: 11/13/20.

Accession Number: 20201113-5127.

Comments Due: 5 p.m. ET 12/4/20.

Docket Numbers: ER21-409-000.

Applicants: Mid-Atlantic Interstate Transmission, LLC, PJM Interconnection, L.L.C.

Description: § 205(d) Rate Filing: MAIT submits ECSA SA No. 5777 to be effective 1/13/2021.

Filed Date: 11/13/20.

Accession Number: 20201113-5130.

Comments Due: 5 p.m. ET 12/4/20.

Docket Numbers: ER21-410-000.

Applicants: Tri-State Generation and Transmission Association, Inc.

Description: § 205(d) Rate Filing: Revised LGIP and SGIP to be effective 1/13/2021.

Filed Date: 11/13/20.

Accession Number: 20201113-5133.

Comments Due: 5 p.m. ET 12/4/20.

Docket Numbers: ER21-411-000.

Applicants: Southwest Power Pool, Inc.

Description: § 205(d) Rate Filing: 1892R9 Evergy Kansas Central, Inc. NITSA NOA—Robinson to be effective 2/1/2021.

Filed Date: 11/16/20.

Accession Number: 20201116-5016.

Comments Due: 5 p.m. ET 12/7/20.

Docket Numbers: ER21-412-000.

Applicants: Southwest Power Pool, Inc.

Description: § 205(d) Rate Filing: 1893R10 Evergy Kansas Central, Inc. NITSA NOA—Savonburg to be effective 2/1/2021.

Filed Date: 11/16/20.

Accession Number: 20201116-5017.

Comments Due: 5 p.m. ET 12/7/20.

Docket Numbers: ER21-413-000.

Applicants: Southwest Power Pool, Inc.

Description: § 205(d) Rate Filing: 1897R10 Evergy Kansas Central, Inc. NITSA NOA ? Elwood to be effective 2/1/2021.

Filed Date: 11/16/20.

Accession Number: 20201116-5018.

Comments Due: 5 p.m. ET 12/7/20.

Docket Numbers: ER21-414-000.

Applicants: Southwest Power Pool, Inc.

Description: § 205(d) Rate Filing: 2045R9 Evergy Kansas Central, Inc. NITSA NOA—Morrill to be effective 2/1/2021.

Filed Date: 11/16/20.

Accession Number: 20201116-5037.

Comments Due: 5 p.m. ET 12/7/20.

Docket Numbers: ER21-415-000.

Applicants: Briel Farm Solar, LLC.

Description: Baseline eTariff Filing: Application for MBR Authorization and Request for Certain Waivers, et al. to be effective 11/17/2020.

Filed Date: 11/16/20.

Accession Number: 20201116-5042.

Comments Due: 5 p.m. ET 12/7/20.

Docket Numbers: ER21-416-000.

Applicants: Stoney Creek Solar LLC.

Description: Petition for Limited Waiver, et al. of Stoney Creek Solar LLC.

Filed Date: 11/13/20.

Accession Number: 20201113-5258.

Comments Due: 5 p.m. ET 12/4/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2020.
Nathaniel J. Davis, Sr.,
Deputy Secretary.

[FR Doc. 2020-25673 Filed 11-19-20; 8:45 am]

BILLING CODE 6717-01-P